OFFICE OF THE UNITED STATES TRADE REPRESENTATIVE

U.S.-EU High Level Working Group on Jobs and Growth

AGENCY: Office of the United States Trade Representative.

ACTION: Request for comments.

SUMMARY: At the November 28, 2011, European Union (EU)-United States Summit meeting, President Obama, European Commission President Barroso, and European Council President Von Rompuy directed the Transatlantic Economic Council to establish a High Level Working Group on Jobs and Growth, led by U.S. Trade Representative Ron Kirk and EU Trade Commissioner Karel De Gucht. The Working Group was asked to identify policies and measures to increase U.S.-EU trade and investment to support mutually beneficial job creation, economic growth, and international competitiveness. The Leaders also asked the Working Group to work closely with public and private sector stakeholder groups, and to draw on existing dialogues and mechanisms, as appropriate.

To ensure that it has access to a wide range of views, ideas, and options concerning policies and measures to increase transatlantic trade and investment, the Working Group plans to consult extensively with business, nongovernmental organizations, academia, and other stakeholders. As part of this process, and consistent with the Leaders' mandate, the U.S. Government welcomes written input from members of the public on options for increasing trade and investment in areas including, but not limited to, the following:

• Conventional barriers to trade in goods, such as tariffs and tariff-rate quotas;

• Reduction, elimination, or prevention of barriers to trade in goods, services, and investment;

• Opportunities for enhancing the compatibility of regulations and standards;

• Reduction, elimination, or prevention of unnecessary “behind the border” non-tariff barriers to trade in all categories;

• Enhanced cooperation for the development of rules and principles on global issues of common concern and also for the achievement of shared economic goals relating to third countries.

For each option or proposal that is suggested, submissions should seek to assess:

• the short- and medium-term impact on economic growth, job creation, and competitiveness;

• the feasibility; and

• the implications for, and consistency with, bilateral and multilateral trade obligations.

DATES: Written comments should be submitted no later than February 3, 2012.

FOR FURTHER INFORMATION CONTACT: David Weiner, Deputy Assistant U.S. Trade Representative for Europe, (202) 395-9679, or Kate Kalutkiewicz, Director for European Affairs, (202) 395-9460, Office of the United States Trade Representative, 600 17th Street NW., Washington, DC 20508.

SUPPLEMENTARY INFORMATION: Background: Transatlantic trade and investment flows constitute the largest economic relationship in the world, creating jobs, increasing economic growth, and driving competitiveness on both sides of the Atlantic. The United States and the EU are committed to identifying new ways of strengthening their economic relationship and developing its full potential. A number of studies and proposals have advocated new bilateral trade, investment, and other economic agreements to access the untapped economic opportunities of the relationship. The High Level Working Group on Jobs and Growth will consider these and other proposals aimed at promoting job creation and growth through expanded trade and investment.

Upon completing its analysis, the Working Group will consider and recommend practical means necessary to implement any policy measures it identifies. These could include a range of possible initiatives, from enhanced regulatory cooperation to negotiation of one or more bilateral trade agreements addressing the issues above.

The Working Group will provide an interim update to Leaders on the status of its work in June 2012. It will submit a report with findings, conclusions, and recommendations to the Leaders by the end of 2012.

Submissions: To facilitate expeditious handling, the public is strongly encouraged to submit documents electronically via http://www.regulations.gov, docket number USTR-2012-0001. Submissions should contain the term “U.S.-EU High Level Working Group” in the “Type comment:” field on http://www.regulations.gov. To find the docket, enter the docket number in the “Enter Keyword or ID” window at the http://www.regulations.gov home page and click “Search.” The site will provide a search-results page listing all documents associated with this docket. Find a reference to this notice by selecting “Notices” under “Document Type” on the search-results page, and click on the link entitled “Submit a Comment.” (For further information on using the http:www.regulations.gov Web site, please consult the resources provided on the Web site by clicking on the “Help” tab.) The http://www.regulations.gov Web site provides the option of making submissions by filling in a comments field, or by attaching a document. USTR prefers submissions to be provided in an attached document. USTR prefers submissions in Microsoft Word (.doc) or Adobe Acrobat (.pdf). If the submission is in an application other than those two, please indicate the name of the application in the “Comments” field.

L. Daniel Mullaney,
Assistant U.S. Trade Representative for Europe and the Middle East.

[FR Doc. 2012-329 Filed 1-10-12; 8:45 am]

BILLING CODE 3190-W2-P